DEPARTMENT OF HEALTH AND HUMAN SERVICES

Centers for Medicare & Medicaid Services

[CMS-1838-N]

Medicare Program; Announcement of Request for an Exception From the Prohibition on Expansion of Facility Capacity Under the Hospital Ownership and Rural Provider Exceptions to the Physician Self-Referral Prohibition; Recission

AGENCY: Centers for Medicare & Medicaid Services (CMS), HHS.

ACTION: Rescission of notice with request for comment.

SUMMARY: This document rescinds a notice with request for comment that appeared in the Federal Register on February 11, 2025, regarding a request from a hospital with physician ownership for an exception to the physician self-referral law's prohibition against expansion of facility capacity. The purpose of the notice was to solicit comments on the request from individuals and entities in the community in which the hospital is located.

DATES: As of April 28, 2025, the notice with a request for comment that appeared in the Federal Register on February 11, 2025, at 90 FR 9343 is rescinded.

ADDRESSES: Comments received on the notice with request for comment can be viewed at https://www.regulations.gov/search/docket?filter=cms-2025-0016.

FOR FURTHER INFORMATION CONTACT: POH-ExceptionRequests@cms.hhs.gov. Joi Hosley, (410) 786-2194.

SUPPLEMENTARY INFORMATION: On February 11, 2025, we published a notice with request for comment that (1) provided notice that Mountain View Hospital (“Hospital”), a hospital with physician ownership located in Idaho Falls, Idaho, has requested an exception from the prohibition on facility expansion at 42 CFR 411.362(b)(2) (“expansion exception request”); and (2) solicited comments on the expansion exception request from individuals and entities in the community in which Hospital is located. After the notice with request for comment was published, Hospital withdrew its expansion exception request. Therefore, we are rescinding the February 11, 2025 notice with request for comment.

The Administrator of the Centers for Medicare & Medicaid Services (CMS), Mehmet Oz, having reviewed and approved this document, authorizes Vanessa Garcia, who is the Federal Register Liaison, to electronically sign this document for purposes of publication in the Federal Register.

Vanessa Garcia,
Federal Register Liaison, Centers for Medicare & Medicaid Services.

[FR Doc. 2025-07294 Filed 4-25-25; 8:45 am]

BILLING CODE 4120-01-P